DEPARTMENT OF THE INTERIOR

Bureau of Land Management

[LLID9570000.LL14200000.BJ0000]

IDAHO: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey of a portion of the subdivisional lines, and the 1868 left bank meanders of the Snake River in section 28, and the subdivision of sections 28 and 29, T. 1 S., R. 2 W., of the Boise Meridian, Idaho, Group Number 1281, was accepted April 7, 2010.

The plat representing the dependent resurvey of a portion of the subdivision of section 1, and a metes-and-bounds survey of lot 7, in sec. 1, T. 4 N., R. 17 E., Boise Meridian, Idaho, Group Number 1291, was accepted May 7, 2010.

The plat constituting the entire survey record of the dependent resurvey of portions of the First Standard Parallel North and the subdivision of sec. 36, T. 5 N., R. 17 E., Boise Meridian, Idaho, Group Number 1292, was accepted May 7, 2010.

The plat constituting the entire survey record of the dependent resurvey of a portion of the south boundary, T. 2 N., R. 43 E., Boise Meridian, Idaho, Group Number 1297, was accepted June 10, 2010.

These surveys were executed at the request of the Bureau of Reclamation to meet their administrative needs. The lands surveyed are:

The plat representing the dependent resurvey of former Tract G in section 12 (now Tracts 37 and 38), and the metes-and-bounds survey of Tracts 37 and 38, T. 8 S., R. 24 E., of the Boise Meridian, Idaho, Group Number 1279, was accepted May 13, 2010.

The plat representing the dependent resurvey of former Tract E in section 32 (now Tracts 39 and 40) and former Tract F in section 32 (now Tracts 41 and 42), and the metes-and-bounds survey of Tracts 39 through 42, T., 8 S., R., 24 E., of the Boise Meridian, Idaho, Group Number 1279, was accepted May 24, 2010.

The plat representing the dependent resurvey of portions of the subdivisional lines, the subdivision of section 34, and former Tract E in section 34 (now Tracts 37 and 38), and a metes-and-bounds survey of Tracts 37 and 38, T. 8 S., R. 21 E., of the Boise Meridian, Idaho, Group Number 1280, was accepted May 24, 2010.

This survey was executed at the request of the Bureau of Indian Affairs to meet their administrative needs. The lands surveyed are:

The plat representing the dependent resurvey of a portion of the west boundary of T. 46 N., R. 4 W., Boise Meridian, Idaho, Group Number 1299, was accepted April 6, 2010.

July 6, 2010.
Stanley G. French,
Chief Cadastral Surveyor for Idaho.

[FR Doc. 2010-18727 Filed 7-29-10; 8:45 am]

BILLING CODE 4310-GG-P./